DEPARTMENT OF DEFENSE

Department of the Army

Privacy Act of 1974; System of Records

AGENCY: Department of the Army, DOD.

ACTION: Notice to alter a system of records.

SUMMARY: The Department of the Army is altering a system of records notice in its existing inventory of record systems subject to the Privacy Act of 1974, (5 U.S.C. 552a), as amended. The alteration adds a new category of individuals covered, i.e., reserve personnel.

DATES: This proposed action will be effective without further notice on February 7, 2001 unless comments are received which result in a contrary determination.

ADDRESSES: Records Management Division, U.S. Army Records Management and Declassification Agency, ATTN: TAPC-PDD-RP, Stop 5603, Ft. Belvoir, VA 22060-5603.

FOR FURTHER INFORMATION CONTACT: Ms. Janice Thornton at (703) 806-4390 or DSN 656-4390 or Ms. Christie King at (703) 806-3711 or DSN 656-3711.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on December 19, 2000, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 20, 2000.
Patricia L. Toppings,
Alternate OSD Federal Register Liaison Officer, Department of Defense.

A0635-5 TAPC

System name:

Separation Transaction Control/Records Transfer System (February 22, 1993, 58 FR 10002).

Changes:

* * * * *

Categories of Individuals Covered by the System:

Delete entry and replace with ‘Active duty enlisted and reserve personnel separated from military service (excluding active duty for military for training) and all personnel immediately reenlisting after separation.’

Categories of Records in the System:

Delete entry and replace with ‘Name, Social Security Number, rank, eligibility for reenlistment, character of separation, program designator, date and location of separation, reenlistment, moral waiver and specialty, and DD Form 214, Certificate of Discharge of Release from Active Duty.’

Purpose(s):

Delete entry and replace with ‘To monitor separations of active duty and reserve personnel as a means of controlling strength and record accountability, and re-enlistment processing, and to ensure separation documents are filed in official military record.

* * * * *

Storage:

Delete entry and replace with ‘Magnetic tapes/discs and electronic storage media.’

Retention and Disposal:

Delete entry and replace with ‘Separation records and related documents are maintained for six months and then destroyed.

Reenlistment eligibility records are forwarded for incorporation into the military personnel jacket, destroy upon reenlistment of individual.

Military Personnel Transition Point Processing Master File (Disposition pending. Until the National Archives and Records Administration has approved the retention and disposal schedule for these records, treat as permanent.’

* * * * *

A0635-5 TAPC

System name:

Separation Transaction Control/Records Transfer System.

System location:

Commander, U.S. Total Army Personnel Command, Retirements and Separations Branch, 200 Stovall Street, Alexandria, VA 22332-0478;

U.S. Army Enlisted Records and Evaluation Center, Fort Benjamin Harrison, IN 46249-5301;

U.S. Army Reserve Components and Personnel Center, 9700 Page Avenue, St. Louis, MO 63132-5200.

Categories of Individuals Covered by the System:

Active duty enlisted and reserve personnel separated from military service (excluding active duty for military for training) and all personnel immediately re-enlisting after separation.

Categories of Records in the System:

Name, Social Security Number, rank, eligibility for re-enlistment, character of separation, program designator, date and location of separation, reenlistment, moral waiver and specialty, and DD Form 214, Certificate of Discharge of Release from Active Duty.

Authority for Maintenance of the System:

10 U.S.C. 3013, Secretary of the Army; Army Regulation 601-280, Army Retention Program; Army Regulation 635-200, Enlisted Personnel; and E.O. 9397 (SSN).

Purpose(s):

To monitor separations of active duty and reserve personnel as a means of controlling strength and record accountability, and re-enlistment processing, and to ensure separation documents are filed in official military record.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Magnetic tapes/discs and electronic storage media.

Retrievability:

By name and/or Social Security Number.

Safeguards:

Records are protected by physical security devices, guards, computer software and hardware safeguard features, and personnel clearances.

Retention and disposal:

Separation records and related documents are maintained for six months and then destroyed.

Reenlistment eligibility records are forwarded for incorporation into the military personnel jacket, destroy upon reenlistment of individual.

Military Personnel Transition Point Processing Master File records are retained in current file area, treat as permanent until National Archives and Records Administration disposition is approved.

System manager(s) and address:

Commander, U.S. Total Army Personnel Command, Retirements and Separations Branch, 200 Stovall Street, Alexandria, VA 22332-0478.

Notification procedure:

Individuals seeking to determine if information about themselves is contained in this record system should address written inquiries to the Commander, U.S. Total Army Personnel Command, Retirements and Separations Branch, 200 Stovall Street, Alexandria, VA 22332-0478.

Individual should provide the full name, Social Security Number, military status, and if separated, date of separation.

Record Access Procedures:

Individuals seeking access to records about themselves contained in this record system should address written inquiries to the Commander, U.S. Total Army Personnel Command, Retirements and Separations Branch, 200 Stovall Street, Alexandria, VA 22332-0478.

Individual should provide the full name, Social Security Number, military status, and if separated, date of separation.

Contesting Record Procedures:

The Army's rules for accessing records, contesting contents and appealing initial agency determinations are contained in Army Regulation 340-21; 32 CFR part 505; or may be obtained from the system manager.

Record Source Categories:

From relevant Army records and reports.

Exemptions claimed for the system:

None.

[FR Doc. 01-411 Filed 1-5-01; 8:45 am]

BILLING CODE 5001-10-P